DEPARMENT OF COMMERCE

Foreign-Trade Zones Board

[Docket 48-2002]

Foreign-Trade Zone 185—Culpeper, Virginia; Application For Foreign-Trade Subzone Status, Flint Ink North America Corporation (Pigments, Inks, and Varnish Products) Weyers Cave, VA

Correction

In notice document 02-26416 beginning on page 64095 in the issue of Thursday, October 17, 2002, make the following correction:

On page 64096, in the first column, in the third full paragraph, in the sixth line, “January 2, 2003” should read “December 31, 2002”.

[FR Doc. C2-26416 Filed 10-23-02; 8:45 am]

BILLING CODE 1505-01-D

DEPARTMENT OF ENERGY

Federal Energy Regulatory Commission

[Docket No. CP03-1-000]

El Paso Natural Gas Company; Notice of Application

October 10, 2002.

Correction

In notice document 02-26386 beginning on page 64108 in the issue of Thursday, October 17, 2002, make the following correction:

On page 64108, in the second column, the docket number is corrected to read as set forth above.

[FR Doc. C2-26386 Filed 10-23-02; 8:45 am]

BILLING CODE 1505-01-D